DEPARTMENT OF ENERGY

Federal Energy Regulatory Commission

Hydroelectric Applications; Notice of Filing

July 21, 2003.

Backbone Windpower Holdings, LLC

[Docket No. ER02-2559-001]

Badger Windpower, LLC

[Docket No. ER01-1071-002]

Bayswater Peaking Facility, LLC

[Docket No. ER02-669-002]

Blythe Energy, LLC

[Docket No. ER02-2018-002]

Calhoun Power Company I, LLC

[Docket No. ER02-2074-002]

Doswell Limited Partnership

[Docket No. ER90-80-001]

ESI Vansycle Partners, L.P.

[Docket No. ER98-2494-004]

Florida Power & Light Company

[Docket No. ER97-3359-005]

FPL Energy Cape, LLC

[Docket No. ER00-3068-002]

FPL Energy Hancock County Wind, LLC

Docket No. ER03-34-001]

FPL Energy Maine Hydro, Inc.

[Docket No. ER98-3511-006]

FPL Energy MH 50, LP

[Docket No. ER99-2917-003]

FPL Energy Marcus Hook, L.P.

[Docket No. ER02-1903-001]

FPL Energy Mason, LLC

[Docket No. ER98-3562-006]

FPL Energy New Mexico Wind, LLC

[Docket No. ER03-179-002]

FPL Energy Pennsylvania Wind, LLC

[Docket No. ER02-2166-001]

FPL Energy Power Marketing, Inc.

[Docket No. ER98-3566-009]

FPL Energy Rhode Island Energy, L.P.

[Docket No. ER02-2120-001]

FPL Energy Seabrook, LLC

[Docket No. ER02-1838-001]

FPL Energy Vansycle, LLC

[Docket No. ER01-838-002]

FPL Energy Wyman, LLC

[Docket No. ER98-3563-006]

FPL Energy Wyman IV, LLC

[Docket No. ER98-3564-006]

Gray County Wind Energy, LLC

[Docket No. ER01-1972-002]

Hawkeye Power Partners, LLC

[Docket No. ER98-2076-005]

High Winds, LLC

[Docket No. ER03-155-001]

Jamaica Bay Peaking Facility, LLC

[Docket No. ER03-623-003]

Lake Benton Power Partners II, LLC

[Docket No. ER98-4222-001]

Mill Run Windpower, LLC

[Docket No. ER01-1710-002]

Somerset Windpower, LLC

[Docket No. ER01-2139-003]

West Texas Wind Energy Partners, LP

[Docket No. ER98-1965-002]

Take notice that on June 30, 2003, the FPL Energy, LLC, on behalf of certain of its subsidiaries, and Florida Power and Light Company tendered for filing their updated market analysis associated with market-based rate authorizations.

Any person desiring to intervene or to protest this filing should file with the Federal Energy Regulatory Commission, 888 First Street, NE., Washington, DC 20426, in accordance with Rules 211 and 214 of the Commission's Rules of Practice and Procedure (18 CFR 385.211 and 385.214). Protests will be considered by the Commission in determining the appropriate action to be taken, but will not serve to make protestants parties to the proceeding. Any person wishing to become a party must file a motion to intervene. All such motions or protests should be filed on or before the comment date, and, to the extent applicable, must be served on the applicant and on any other person designated on the official service list. This filing is available for review at the Commission or may be viewed on the Commission's Web site at http://www.ferc.gov, using the “FERRIS” link. Enter the docket number excluding the last three digits in the docket number field to access the document. For assistance, please contact FERC Online Support at FERCOnlineSupport@ferc.gov or toll-free at (866) 208-3676, or for TTY, contact (202) 502-8659. Protests and interventions may be filed electronically via the Internet in lieu of paper; see 18 CFR 385.2001(a)(1)(iii) and the instructions on the Commission's Web site under the “e-Filing” link. The Commission strongly encourages electronic filings.

Comment Date: August 1, 2003.

Linda Mitry,
Acting Secretary.

[FR Doc. 03-19036 Filed 7-24-03; 8:45 am]

BILLING CODE 6717-01-P